DEPARTMENT OF COMMERCE

Bureau of Industry and Security

15 CFR Parts 732, 734, 736, 740, 742, 744, 746, 748, 758, 762, 772, and 774

[Docket No. 241129-0307]

RIN 0694-XC111

Public Briefing on Changes to Advanced Computing and Semiconductor Manufacturing Items

AGENCY: Bureau of Industry and Security, U.S. Department of Commerce.

ACTION: Notification of public briefing on regulatory actions.

SUMMARY: On December 2, 2024, the Office of the Federal Register posted for public inspection two related Bureau of Industry and Security (BIS) rules: an interim final rule, “Foreign-Produced Direct Product Rule Additions, and Refinements to Controls for Advanced Computing and Semiconductor Manufacturing Items,” (RIN 0694-AJ74) and a final rule, “Additions and Modifications to the Entity List; Removals from the Validated End-User (VEU) Program” (RIN 0694-AJ77). This document announces that, on December 5, 2024, BIS will host a virtual public briefing on these rules. This document also provides details on the procedures for participating in the virtual public briefing.

DATES:

Virtual public briefing: The virtual public briefing will be held on December 5, 2024. The public briefing will begin at 3 p.m. Eastern Standard Time (EST) and conclude at 4 p.m. EST.

Deadline to register: Register by 1 p.m. EST on December 5, 2024, for virtual participation.

ADDRESSES: To attend this event virtually, register at: https://events.gcc.teams.microsoft.com/event/abac2c31-743f-4f61-806f-0b7f4c376bcf@44cf3ec3-840c-4086-b7de-e3bc9a6c2db4.

Recordkeeping: A summary of the briefing will be posted for the record at: https://events.gcc.teams.microsoft.com/event/abac2c31-743f-4f61-806f-0b7f4c376bcf@44cf3ec3-840c-4086-b7de-e3bc9a6c2db4 and at https://regulations.gov under the regulations.gov ID for this notice (BIS-2024-0028).

FOR FURTHER INFORMATION CONTACT: For questions on this virtual public briefing, contact Regulatory Policy Division, Office of Exporter Services, Bureau of Industry and Security, U.S. Department of Commerce at 202-482-2440 or by email: RPD2@bis.doc.gov.

SUPPLEMENTARY INFORMATION:

Background

On December 2, 2024, the Office of Federal Register posted for public inspection the BIS interim final rule, “Foreign-Produced Direct Product Rule Additions, and Refinements to Controls for Advanced Computing and Semiconductor Manufacturing Items,” which amends the Export Administration Regulations (EAR). These amendments revise controls for certain advanced computing items, supercomputers, and semiconductor manufacturing equipment, which includes adding new controls for certain semiconductor manufacturing equipment and related items, creating new Foreign Direct Product (FDP) rules for certain commodities to impair the capability to produce “advanced-node integrated circuits” (“advanced-node ICs”) by certain destinations or entities of concern, adding new controls for certain high bandwidth memory (HBM) important for advanced computing, and clarifying controls on certain software keys that allow for the use of items such as software tools.

On the same day, the Office of Federal Register posted for public inspection the BIS final rule, “Additions and Modifications to the Entity List; Removals from the Validated End-User (VEU) Program,” which amends the EAR by adding 140 entities to the Entity List. These entries are listed on the Entity List under the destinations of China, People's Republic of (China), Japan, South Korea, and Singapore, and have been determined by the U.S. Government to be acting contrary to the national security and foreign policy interests of the United States.

That final rule also modifies 14 existing entries on the Entity List, consisting of revisions to 14 entries under China and is part of this larger effort to ensure that appropriate EAR controls are in place on these items, including in connection with transactions destined to or otherwise involving the entities being added to the Entity List, as well as for existing entries on the Entity List that are being modified. Additionally, that final rule designates nine of these entities being added and seven of the entries being modified as entities for which entity-specific restrictions apply with respect to certain foreign-produced items. The final rule also amends the EAR by removing three entities from the Validated End-User (VEU) Program.

Public Briefing

On December 5, 2024, BIS will host a public briefing to address the details of these two rules. The virtual public briefing will be held on December 5, 2024. The virtual public briefing will begin at 3 p.m. EST and conclude at 4 p.m. EST.

Procedure for Requesting Participation

To participate in the public meeting virtually, register at: https://events.gcc.teams.microsoft.com/event/abac2c31-743f-4f61-806f-0b7f4c376bcf@44cf3ec3-840c-4086-b7de-e3bc9a6c2db4 no later than 1 p.m. EST on December 5, 2024, for virtual participation. This web page will also display the agenda of the public meeting and any other necessary information.

Special Accommodations

For any special accommodation needs, please send an email to: rpd2@bis.doc.gov.

Matthew S. Borman,
Principal Deputy Assistant Secretary for Strategic Trade and Technology Security.

[FR Doc. 2024-28423 Filed 12-2-24; 11:15 am]

BILLING CODE 3510-33-P